Title 3—

The President

Proclamation 9836 of January 15, 2019

Religious Freedom Day, 2019

By the President of the United States of America

A Proclamation

On Religious Freedom Day, we celebrate our Nation's long-standing commitment to freedom of conscience and the freedom to profess one's own faith. The right to religious freedom is innate to the dignity of every human person and is foundational to the pursuit of truth.

The Pilgrims who landed at Plymouth shared an experience common to many of America's first settlers: they had fled their home countries to escape religious persecution. Aware of this history, our Nation's Founding Fathers readily understood that a just government must respect the deep yearning for truth and openness to the transcendent that are part of the human spirit. For this reason, from the beginning, our constitutional republic has endeavored to protect a robust understanding of religious freedom. On January 16, 1786, Virginia enacted the Statute for Religious Freedom to protect the right of individual conscience and religious exercise and to prohibit the compulsory support of any church. Authored by Thomas Jefferson, the statute set forth the principle that religious liberty is an inherent right and not a gift of the state. Jefferson's statute served as the inspiration and model for the legal architecture of the conscience protections in the First Amendment, drafted by James Madison just a few years later.

Unfortunately, the fundamental human right to religious freedom is under attack. Efforts to circumscribe religious freedom—or to separate it from adjoining civil liberties, like property rights or free speech—are on the rise. Over time, legislative and political attacks on religious freedom have given way to actual violence. Last October, we witnessed a horrific attack on the Tree of Life Synagogue in Pittsburgh, Pennsylvania—the deadliest attack on the Jewish community in our Nation's history. Tragically, attacks on people of faith and their houses of worship have increased in frequency in recent years.

My Administration is taking action to protect religious liberty and to seek justice against those who seek to abridge it. The Department of Justice is aggressively prosecuting those who use violence or threats to interfere with the religious freedom of their fellow Americans. In January of 2018, the Justice Department announced a religious liberty update to the Justice Manual, raising the profile of religious liberty cases. Also in January of 2018, the Department of Health and Human Services undertook major policy changes to protect religious freedom, including forming a new Conscience and Religious Freedom Division within the Department's Office for Civil Rights and proposing a comprehensive new conscience protection regulation to reinvigorate enforcement of religious freedom laws within existing health care programs.

Around the globe today, people are being persecuted for their faith by authoritarian dictatorships, terrorist groups, and other intolerant individuals. To address this tragic reality, last July, at my request, the Secretary of State convened the first-ever Ministerial to Advance Religious Freedom. We are listening to the voices of those risking their lives for their religious beliefs, and we are listening to the families of people who have died fighting for their fundamental right of conscience.

Our Nation was founded on the premise that a just government abides by the “Laws of Nature and of Nature's God.” As the Founders recognized, the Constitution protects religious freedom to secure the rights endowed to man by his very nature. On this day, we recognize this history and affirm our commitment to the preservation of religious freedom.

NOW, THEREFORE, I, DONALD J. TRUMP, President of the United States of America, by virtue of the authority vested in me by the Constitution and the laws of the United States, do hereby proclaim January 16, 2019, as Religious Freedom Day. I call on all Americans to commemorate this day with events and activities that remind us of our shared heritage of religious liberty and that teach us how to secure this blessing both at home and around the world.

IN WITNESS WHEREOF, I have hereunto set my hand this fifteenth day of January, in the year of our Lord two thousand nineteen, and of the Independence of the United States of America the two hundred and forty-third.

[FR Doc. 2019-00092

Filed 1-18-19; 8:45 am]

Billing code 3295-F9-P